INTERNATIONAL TRADE COMMISSION

[Investigation 332-419]

Pricing of Prescription Drugs

AGENCY: United States International Trade Commission

ACTION: Extension of dates for delivery of the initial report and for written submissions by interested parties for Inv. No. 332-419, Pricing of Prescription Drugs.

EFFECTIVE DATE: August 17, 2000.

SUMMARY: In response to a request on August 9, 2000, from the Committee on Ways and Means (the Committee) of the United States House of Representatives, the Commission has extended the date for reporting the initial results of its investigation No. 332-419, Pricing of Prescription Drugs, until December 1, 2000. The deadline for written submissions by interested parties has been extended to September 8, 2000.

FOR FURTHER INFORMATION CONTACT: Elizabeth R. Nesbitt, Project Leader (202-205-3355) or Raymond L. Cantrell, Deputy Project Leader (202-205-3362), Office of Industries, or Michael Barry, Deputy Project Leader (202-205-3246), Office of Economics, U.S. International Trade Commission, Washington, DC, 20436. For information on the legal aspects of this investigation, contact William Gearhart of the Office of the General Counsel (202-205-3091). Hearing impaired individuals are advised that information on this matter can be obtained by contacting the TDD terminal on (202) 205-1810.

WRITTEN SUBMISSIONS: The deadline for written submissions has been extended until September 8, 2000. Interested parties are invited to submit written statements (original and 14 copies) concerning the matters to be addressed by the Commission in its report on this investigation. In addition to general information regarding prices and pricing practices prevalent in each of the countries under consideration, the Commission is particularly interested in comments regarding the question raised by the Committee in their request regarding the extent to which price control systems utilized by the countries under consideration impact pricing for comparable drugs in the United States. Commercial or financial information that a person desires the Commission to treat as confidential must be submitted on separate sheets of paper, each clearly marked “Confidential Business Information” at the top. All submissions requesting confidential treatment must conform with the requirements of § 201.6 of the Commission's Rules of Practice and Procedure (19 CFR 201.6). All written submissions must conform with the provisions of section 201.8 of the Commission's Rules. All written submissions, except for confidential business information, will be made available in the Office of the Secretary of the Commission for inspection by interested parties. To be assured of consideration by the Commission, written statements relating to the Commission's report should be submitted to the Commission at the earliest practical date and should be received no later than the close of business on September 8, 2000. All submissions should be addressed to the Secretary, United States International Trade Commission, 500 E Street SW., Washington, DC 20436. The Commission's rules do not authorize filing submissions with the Secretary by facsimile or electronic means.

Persons with mobility impairments who will need special assistance in gaining access to the Commission should contact the Office of the Secretary at 202-205-2000. General information concerning the Commission may also be obtained by accessing its Internet server (http://www.usitc.gov). Notice of institution of the investigation was published in the Federal Register of July 26, 2000 (65 FR 45998).

List of Subjects

Prescription drugs, Price controls, Compulsory licensing.

By order of the Commission.
Issued: August 17, 2000.
Donna R. Koehnke,
Secretary.

[FR Doc. 00-21501 Filed 8-22-00; 8:45 am]

BILLING CODE 7020-02-P